DEPARTMENT OF ENERGY

Environmental Management Site-Specific Advisory Board, Nevada

AGENCY: Department of Energy.

ACTION: Notice of open meeting.

SUMMARY: This notice announces a meeting of the Industrial Sites and Soils Committees of the Environmental Management Site-Specific Advisory Board (EM SSAB), Nevada. The Federal Advisory Committee Act (Pub. L. 92-463, 86 Stat. 770) requires that public notice of this meeting be announced in the Federal Register.

DATES: Tuesday, November 2, 2010, 3 p.m.

ADDRESSES: Nevada Support Facility, 232 Energy Way, North Las Vegas, Nevada 89030.

FOR FURTHER INFORMATION CONTACT: Denise Rupp, Board Administrator, 232 Energy Way, M/S 505, North Las Vegas, Nevada 89030. Phone: (702) 657-9088; Fax (702) 295-5300 or E-mail: ntscab@nv.doe.gov.

SUPPLEMENTARY INFORMATION:

Purpose of the Board: The purpose of the Board is to make recommendations to DOE-EM and site management in the areas of environmental restoration, waste management, and related activities.

Purpose of the Industrial Sites Committee: The purpose of the Committee is to review and make recommendations on industrial sites at the Nevada Test Site including decontamination, closure, re-use and/or demolition.

Purpose of the Soils Committee: The purpose of the Committee is to focus on issues related to soil contamination at the Nevada Test Site including decontamination and closure.

Tentative Agenda: The Committee members will meet with the Environmental Restoration Project Director to discuss current activities.

Public Participation: The EM SSAB, Nevada, welcomes the attendance of the public at its meetings and will make every effort to accommodate persons with physical disabilities or special needs. If you require special accommodations due to a disability, please contact Denise Rupp at least seven days in advance of the meeting at the phone number listed above. Written statements may be filed with the Committee either before or after the meeting. Individuals who wish to make oral presentations pertaining to agenda items should contact Denise Rupp at the telephone number listed above. The request must be received five days prior to the meeting and reasonable provision will be made to include the presentation in the agenda. The Deputy Designated Federal Officer is empowered to conduct the meeting in a fashion that will facilitate the orderly conduct of business. Individuals wishing to make public comments will be provided a maximum of five minutes to present their comments. This notice is being published less than 15 days prior to the meeting date due to programmatic issues that had to be resolved prior to the meeting date.

Minutes: Minutes will be available by writing to Denise Rupp at the address listed above or at the following website: http://www.ntscab.com/MeetingMinutes.htm.

Issued at Washington, DC, on October 13, 2010.
Rachel Samuel,
Deputy Committee Management Officer.

[FR Doc. 2010-26470 Filed 10-19-10; 8:45 am]

BILLING CODE 6450-01-P